FEDERAL COMMUNICATIONS COMMISSION

[Report No. 2729]

Petitions for Reconsideration of Action in Rulemaking Proceeding

October 13, 2005.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by November 10, 2005. See Section 1.4(b)(1) of the Commission's rules (47 CFR 1.4(b)(1)). Replies to an opposition must be filed within 10 days after the time for filing oppositions have expired.

Subject: In the Matter of the 2000 Biennial Regulatory Review Streamlining and Other Revisions of Part 25 of the Commission's Rule Governing the Licensing of, and Spectrum Usage by, Satellite Network Earth Stations and Space Stations (IB Docket No. 00-248).

In the Matter of Amendment of Part 25 of the Commission's Rules and Regulations to Reduce Alien Carrier Interference Between Fixed-Satellite at Reduced Orbital Spacings and to Revise Application Procedures for Satellite Communication Services (CC Docket No. 86-496).

Number of Petitions Filed: 3.

Marlene H. Dortch,
Secretary.

[FR Doc. 05-21208 Filed 10-25-05; 8:45 am]

BILLING CODE 6712-01-P